DEPARTMENT OF TRANSPORTATION

Federal Aviation Administration

Notice of Intent To Request Renewal From the Office of Management and Budget (OMB) of Two Current Public Collections of Information

AGENCY: Federal Aviation Administration (FAA), DOT.

ACTION: Notice.

SUMMARY: In compliance with the Paperwork Reduction Act (44 U.S.C. 3501 et seq.), the FAA invites public comment on two currently approved public information collections which received emergency clearances and now will be submitted to OMB for extensions of those clearances.

DATES: Comments must be received on or before March 26, 2002.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collections of information in order to evaluate the necessity of the collection, the accuracy of the agency's estimate of the burden, the quality, utility, and clarity of the information to be collected, and possible ways to minimize the burden of the collection in preparation for submission to renew the clearances of the following information collections.

1. 2120-0673, Criminal History Records Checks, 14 CFR 107&108. Public Law 106-528 provided for fingerprinting of all individuals on and after December 23, 2000, unescorted access and those individuals who perform certain screening functions at Category X airports. The rule requires that the airport operators and aircraft operators fingerprint those covered individuals at all categories of airports who, previous to November 14, 2001, were not subject to a criminal history records check. The current estimated annual reporting burden is 123,471 hours.

2. 2120-0674, Special Federal Aviation Regulation (SFAR) 92, Flightcrew Compartment Access and Door Designs. SFAR 92 (to part 119) temporarily authorizes variances for certain air carriers from existing design standards for the flightcrew compartment doors and allows for return to service of modified airplanes without prior approved data. This allows certain air carriers to modify their flightcrew compartment door to delay or deter unauthorized entry to the flightcrew compartment. The modifications are conditional on submitting a detailed description of the changes within 90 days, and within 180 days providing a schedule for accomplishing changes to comply with all applicable airworthiness requirements. Current estimated annual reporting burden is 6480 hours.

Issued in Washington, DC, on January 18, 2002.
Steve Hopkins,
Manager, Standards and Information Division, APF-100.

[FR Doc. 02-1869 Filed 1-24-02; 8:45 am]

BILLING CODE 4910-13-M